DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: NIST Manufacturing Extension Partnership (MEP) Client Impact Survey.

OMB Control Number: 0693-0021.

Form Number(s): None.

Type of Request: Regular submission.

Burden Hours: 1,067.

Number of Respondents: 8,000.

Average Hours per Response: 8 minutes.

Needs and Uses: The National Institute of Standards and Technology (NIST) sponsors the Manufacturing Extension Partnership (MEP), a national network of fifty-nine locally-based manufacturing extension centers. The centers work with small manufacturers to help improve their productivity, profitability, and enhance their overall economic competitiveness. Each center is a partnership involving federal, state, local, and client resources. The MEP Centers provide hard-to-find technical assistance and latest business practices within reach of the nation's more than 330,000 small and mid-sized manufacturers.

NIST MEP surveys all clients provided substantive services and collects data on sales, investment, cost savings, and jobs impacts as well as a limited set of qualitative questions. NIST MEP surveys center clients for two primary purposes:

• To collect aggregate information on program performance indicators to report to various stakeholders on program performance. The survey provides information about the quantifiable impacts that clients attribute to the services provided by MEP centers. NIST MEP also conducts other episodic studies to evaluate the system's impact that corroborate and complement the survey results.

• To provide center-specific program performance and impact information for center use. Centers use this information to communicate results to their own stakeholders, at both the state and federal level. The Centers' management and NIST MEP use these results to evaluate center performance and effectiveness. The MEP Center review criteria and process place a strong emphasis on a center's ability to demonstrate impacts based on the survey results.

Affected Public: Business or other for-profit organizations.

Frequency: Annually.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5806 or via the Internet at Jasmeet_K._Seehra@omb.eop.gov.

Dated: September 5, 2008.
Gwellnar Banks,
Management Analyst, Office of the Chief Information Officer.

[FR Doc. E8-21032 Filed 9-10-08; 8:45 am]

BILLING CODE 3510-13-P